DEPARTMENT OF TRANSPORTATION

Pipeline and Hazardous Materials Safety Administration

[Docket No. PHMSA-2016-0021]

Oil Spill Response Planning Workshop

AGENCY: Pipeline and Hazardous Materials Safety Administration, DOT.

ACTION: Notice of public workshop.

SUMMARY: This notice is to announce a public workshop to discuss Oil Spill Response Plans covered by PHMSA's Part 130 and Part 194 regulations. The purpose of the workshop is to bring federal regulators, interested members of the public, industry, and other stakeholders together to share knowledge and experiences with oil spill response planning and preparedness, gather ideas for harmonizing PHMSA's regulations with other agencies, and discuss practical ways regulated entities can better plan and prepare for an oil spill.

DATES: The public workshop will held on Tuesday, April 12, 2016, from 9:00 a.m. to 4:30 p.m. EST. Changes to start and finish times will be updated on the PHMSA meeting Web site (https://primis.phmsa.dot.gov/meetings/MtgHome.mtg?mtg=112).

ADDRESSES: The workshop will be held at the National Transportation Safety Board, 490 L'Enfant Plaza East, Southwest, Washington, DC.

The workshop agenda and any additional information will be published on the PHMSA home page Web site at (http://www.phmsa.dot.gov/pipeline), and on the PHMSA meeting page Web site https://primis.phmsa.dot.gov/meetings/MtgHome.mtg?mtg=112. Presentations will also be available online at the meeting page Web site within 30 days following the workshop.

Registration: Members of the public may attend this free workshop. Please note that the public workshop will be webcast. The details on this meeting, including the location, times, agenda items, and link to the webcast, will be available on the meeting page (https://primis.phmsa.dot.gov/meetings/MtgHome.mtg?mtg=112) as they become available. Attendees, both in person and by webcast, are strongly encouraged to register in advance at (https://primis.phmsa.dot.gov/meetings/MtgHome.mtg?mtg=112) to help ensure accommodations are adequate.

Comments: Members of the public may also submit written comments either before or after the workshop. Comments should reference Docket No. PHMSA-2016-0021. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

• Hand Delivery: DOT Docket Management System, Room W12-140, on the ground floor of the West Building, 1200 New Jersey Avenue SE., Washington, DC between 9:00 a.m. and 5:00 p.m., Monday through Friday, except federal holidays.

Instructions: Identify the docket number at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act Statement heading below for additional information.

Privacy Act Statement

Anyone may search the electronic form of all comments received for any of our dockets. You may review DOT's complete Privacy Act Statement in the Federal Register published April 11, 2000, (65 FR 19476).

Information on Services for Individuals With Disabilities

For information on facilities or services for individuals with disabilities, or to request special assistance at the meeting, please contact Kristen Beer, Office of Pipeline Safety, at 202-366-8405 or by email at kristen.beer@dot.gov.

FOR FURTHER INFORMATION CONTACT: David Lehman, Director, Emergency Support and Security Division, at 202-366-4439 or david.lehman@dot.gov, regarding the subject matter in this notice.

Introduction

The federal pipeline oil spill response plan regulations (49 CFR 194) require operators to prepare and submit a response plan in order to minimize the harm caused to the environment due to the discharge of oil into or on any inland navigable waters of the United States or adjoining shorelines. This workshop will focus on multi-agency alignment, operator compliance, and participation in required drills and exercises. Additionally, attendees and commenters will be given the opportunity to provide suggestions and recommendations for possible changes to the oil spill response regulations.

Background

PHMSA wishes to gather information about the efficacy of the oil spill response plan regulations. PHMSA is aware that regulated entities and members of the public have requested greater direction and regulatory interpretation. PHMSA is also aware that its oil spill response plan regulations do not fully align with the regulations of other federal agencies that have been delegated jurisdiction under 42 U.S.C. 1321(j)(5). PHMSA is exploring ways to reduce redundancy, clarify language and improve efficacy of its oil spill response plan regulations.

PHMSA believes improving the response plan preparation and submission process is important for improving response actions, ensuring response capabilities, and minimizing harm to the environment. In particular, PHMSA is interested in collaboration with other jurisdictional federal agencies, operators, and oil spill response organizations.

Issued in Washington, DC, on March 24, 2016, under authority delegated in 49 CFR 1.97.
Alan K. Mayberry,
Deputy Associate Administrator for Policy and Programs.

[FR Doc. 2016-07096 Filed 3-29-16; 8:45 am]

BILLING CODE 4910-60-P